DEPARTMENT OF ENERGY

[Docket Nos. PP-107 and EA-107]

Application To Rescind Presidential Permit and Electricity Export Authorization; Arizona Public Service Company

AGENCY: Office Electricity Delivery and Energy Reliability, DOE.

ACTION: Notice of application.

SUMMARY: Arizona Public Service Company (APS) has applied to rescind Presidential Permit No. PP-107 and electricity export Order No. EA-107.

DATES: Comments, protests, or requests to intervene must be submitted on or before June 19, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. In addition, exports of electricity from the United States to a foreign country are regulated and require authorization under section 202(e) of the Federal Power Act (FPA) (16 U.S.C. 824a(e)).

On November 28, 1995, the Department of Energy (DOE) issued Presidential Permit No. PP-107 to APS for the construction, operation, maintenance, and connection of a 34.5-kilovolt (kV) electric transmission facility at the U.S.-Mexico border in the vicinity of Douglas, Arizona. The line originates at APS's Fairview substation in Douglas, Arizona, and extends south approximately two miles to the U.S.-Mexico border. On December 5, 1995, DOE issued Order No. EA-107 authorizing APS to transmit electric energy from the United States to Mexico using the transmission facilities authorized in Presidential Permit No. PP-107.

On March 21, 2006, APS applied to DOE to rescind Presidential Permit PP-107 and the associated electricity export authorization contained in Order No. EA-107. At the time of the original permit and export applications, APS had anticipated that the PP-107 facilities would be used for the exchange of emergency power between APS and the Comision Federal de Electricidad (CFE), the national electric utility of Mexico. However, no sales occurred during either 2004 or 2005, and APS now asserts that the line could be better utilized for domestic purposes. APS proposes to accomplish this by removing the span of conductor that crosses the international border, reducing the voltage from 34.5-kV to 12-kV, and using the remaining U.S. portion of the line to supply domestic load in the Douglas area.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with the DOE on or before the date listed above. Additional copies are to be filed directly with Antoine P. Cobb, Law Department, Pinnacle West Capital Corporation, 400 North Fifth Street, P.O. Box 53999, Mail Station 8695, Phoenix, AZ 85072-3999.

Before DOE takes action on APS's application to rescind its Presidential permit and electricity export authorization, DOE must determine that the proposed action will not adversely impact on the reliability of the U.S. electric power supply system and must consider the environmental impacts of the proposed action pursuant to the National Environmental Policy Act of 1969.

Copies of this application will be made available, upon request, for public inspection and copying at the address provided above or by emailing Odessa Hopkins at Odessa.hopkins@hq.doe.gov.

Issued in Washington, DC, on May 15, 2006.
Anthony J. Como,
Director, Permitting and Siting, Office of Electricity Delivery and Energy Reliability.

[FR Doc. E6-7673 Filed 5-18-06; 8:45 am]

BILLING CODE 6450-01-P